DEPARTMENT OF EDUCATION

Statewide Longitudinal Data Systems Under the American Recovery and Reinvestment Act of 2009

(Catalog of Federal Domestic Assistance (CFDA) Number: 84.384A)

AGENCY: Institute of Education Sciences (IES), Department of Education.

ACTION: Notice extending the deadline date for the transmittal of applications to the Statewide Longitudinal Data Systems program under the American Recovery and Reinvestment Act of 2009.

SUMMARY: On July 29, 2009, we published in the Federal Register (74 FR 37872) a notice inviting applications to the Statewide Longitudinal Data Systems program competition under the American Recovery and Reinvestment Act of 2009. That notice established a November 19, 2009, deadline date for eligible applicants to apply for funding under this competition.

We are extending the deadline for the receipt of applications under this competition to December 4, 2009, to allow States more time to coordinate their development of applications under this program with other Recovery Act applications, specifically those for the State Fiscal Stabilization Fund and Race to the Top.

All information in the July 29, 2009, notice remains the same, except for the following update to the DATES section.

DATES: Deadline for Transmittal of Applications: December 4, 2009, by 4:30:00 p.m., Washington, DC time.

FOR FURTHER INFORMATION CONTACT: Tate Gould, U.S. Department of Education, National Center for Education Statistics, 1990 K Street, NW., room 9023, Washington, DC 20006-5651. Telephone: (202) 219-7080 or via Internet: Tate.Gould@ed.gov.

If you use a telecommunications device for the deaf (TDD), you may call the Federal Relay Service (FRS) at 1-800-877-8339. Individuals with disabilities may obtain this notice in an accessible format (e.g., braille, large print, audiotape, or computer diskette) on request to the contact person listed in this section.

Electronic Access to this Document: You may view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Program Authority: 20 U.S.C. 9607.

Dated: October 30, 2009.
John Q. Easton,
Director, Institute of Education Sciences.

[FR Doc. E9-26628 Filed 11-3-09; 8:45 am]

BILLING CODE 4000-01-P